DEPARTMENT OF THE INTERIOR

Geological Survey

[GX23DK00GUH0300; OMB Control Number 1028-011]

Agency Information Collection Activities; USGS Water Use Data and Research Program Announcement; Water Use Data and Research Program Feasibility Study

AGENCY: U.S. Geological Survey, Department of the Interior.

ACTION: Notice of information collection; request for comment.

SUMMARY: In accordance with the Paperwork Reduction Act (PRA) of 1995, the U.S. Geological Survey (USGS) is proposing to revise an information collection.

DATES: Interested persons are invited to submit comments on or before November 6, 2023.

ADDRESSES: Written comments and recommendations for the proposed information collection should be sent within 30 days of publication of this notice to www.reginfo.gov/public/do/PRAMain. Find this particular information collection by selecting “Currently under Review—Open for Public Comments” or by using the search function. Please provide a copy of your comments on this information collection request (ICR) by mail, to USGS, Information Collections Clearance Officer, 12201 Sunrise Valley Drive, MS 159, Reston, VA 20192; or by email to gs-info_collections@usgs.gov. Please reference OMB Control Number 1028-0118 Water Use Data and Research Program Feasibility Study in the subject line of your comments.

FOR FURTHER INFORMATION CONTACT: To request additional information about this ICR, contact Erik A. Smith by email at easmith@usgs.gov, or by telephone at 512-927-3584. Individuals in the United States who are deaf, deafblind, hard of hearing, or have a speech disability may dial 711 (TTY, TDD, or TeleBraille) to access telecommunications relay services. Individuals outside the United States should use the relay services offered within their country to make international calls to the point-of-contact in the United States. You may also view the ICR at http://www.reginfo.gov/public/do/PRAMain.

SUPPLEMENTARY INFORMATION: In accordance with the PRA of 1995 and 5 CFR 1320.8(d)(1), we provide the general public and other federal agencies with an opportunity to comment on proposed, revised, and continuing collections of information. This helps us assess the impact of our information collection requirements and minimize the public's reporting burden. It also helps the public understand our information collection requirements and provide the requested data in the desired format.

A Federal Register notice (88 FR 20902) with a 60-day public comment period soliciting comments on this collection of information was published on April 7, 2023. No comments were received.

As part of our continuing effort to reduce paperwork and respondent burdens, we are again soliciting comments from the public and other federal agencies on the proposed ICR that is described below. We are especially interested in public comment addressing the following issues:

(1) Is the collection necessary to the proper functions of the USGS;

(2) Will this information be processed and used in a timely manner;

(3) Is the estimate of burden accurate;

(4) How might the USGS enhance the quality, utility, and clarity of the information to be collected; and

(5) How might the USGS minimize the burden of this collection on the respondents, including through the use of information technology.

Comments that you submit in response to this notice are a matter of public record. We will include or summarize each comment in our request to OMB to approve this ICR. Before including your address, phone number, email address, or other personally identifiable information (PII) in your comment, you should be aware that your entire comment—including your PII—may be made publicly available at any time. While you can ask us in your comment to withhold your PII from public review, we cannot guarantee that we will be able to do so.

Abstract: The USGS is authorized under SECURE Water Act section 9508 to assist State and Territory water-resource agencies with improving their water-use data collection activities. The USGS has implemented the Water Use Data and Research program (WUDR) to work with State and Territory water agencies to gather and analyze their data and to assist this effort via cooperative agreements. WUDR will work to improve the collection and reporting of water-use categories by State and Territory agencies, including categories of water use that were previously discontinued due to limited resources. This collection will be used in reports to Congress on water resources in the Nation. Program authorization is $1,500,000 per year.

Cooperative agreements will be announced and awarded as part of an annual competitive process that will be guided by a technical committee of USGS employees and stakeholder-group representatives. WUDR funds will be coordinated through a single agency in each State or Territory.

As part of the ongoing efforts to improve the collection and sharing of water-use data, a nationwide data-sharing feasibility study of State and Territory agencies that provide water-use information to the USGS will also be conducted. This study will investigate the water-use data availability and identify barriers that may prevent State and Territory agencies from sharing water-use data, especially site-specific water-use data. Example feasibility-study questions include: (1) whether water use location data (latitude, longitude, etc.) is available to the public, and if so, the format of availability to the public (website, publication, accessible paper files, etc.); (2) ability/willingness to share the water-use data with other agencies, such as the USGS, and any restrictions on sharing data (such as location and/or water quantity); (3) if information on quantities of water used, such as withdrawals, wastewater return, and sales/deliveries between users, is available to the public, and if so, the restrictions on water-quantity data such as categories of use or time intervals.

Collaboration and coordination with USGS personnel will be required as part of the WUDR program. Data must be stored electronically and made available in machine-readable formats that can be incorporated into USGS databases. Additionally, methods used for data collection (estimated values, coefficients, etc.) and a description of data quality assurance and control must be provided to the USGS.

Title of Collection: USGS Water Use Data and Research Program.

OMB Control Number: 1028-0118.

Form Number: None.

Type of Review: Revision of a currently approved collection.

Respondents/Affected Public: State and Territory water-resource agencies that collect water-use data.

Total Estimated Number of Annual Respondents: WUDR estimates that 30 respondents (States and/or Territories) will read the program announcement, 12 respondents will prepare and submit applications, 10 respondents (States and/or Territories) will submit semi-annual (two reports per year) progress reports and a final technical report, and 90 respondents (States and/or Territories) will respond to the water use data sharing feasibility study.

Total Estimated Number of Annual Responses: 30 respondents reading the program announcement; 12 applications; 20 progress reports, 10 final technical reports, 90 respondents to water use data sharing feasibility study.

Estimated Completion Time per Response: Read Program announcement: 1 hour; prepare applications: 40 hours; progress reports: 4 hours; final technical report: 24 hours; water use data sharing feasibility study: 1.5 hours.

Total Estimated Number of Annual Burden Hours: 965 hours.

Respondent's Obligation: Required to be eligible to receive funding and voluntary to respond to water-use data-sharing feasibility study.

Frequency of Collection: Program Announcements are published annually. Proposals are submitted annually by State and Territory water-resource agencies wishing to compete for funding offered through the annual program announcement. State and Territory water-resource agencies that receive a cooperative agreement must submit semi-annual progress reports and a final technical report. State and Territory water-resource agencies that respond to the water-use data sharing feasibility study will only need to respond once to provide potential clarification to questions on their study responses.

Total Estimated Annual Nonhour Burden Cost: None.

An agency may not conduct or sponsor, nor is a person required to respond to, a collection of information unless it displays a currently valid OMB control number.

The authority for this action is the PRA of 1995.

Cory Angeroth,
Deputy Program Coordinator, USGS Groundwater and Streamflow Information Program.

[FR Doc. 2023-22293 Filed 10-5-23; 8:45 am]

BILLING CODE 4338-11-P